DEPARTMENT OF THE INTERIOR

National Park Service

[NPS-WASO-NAGPRA-NPS0037123; PPWOCRADN0-PCU00RP14.R50000]

Notice of Intent To Repatriate Cultural Items: State Historical Society of Wisconsin, Madison, WI

AGENCY: National Park Service, Interior.

ACTION: Notice.

SUMMARY: In accordance with the Native American Graves Protection and Repatriation Act (NAGPRA), the State Historical Society of Wisconsin intends to repatriate a certain cultural item that meets the definition of an object of cultural patrimony and that has a cultural affiliation with the Indian Tribes or Native Hawaiian organizations in this notice. The cultural item was removed from Black River Falls, Jackson County, WI.

DATES: Repatriation of the cultural items in this notice may occur on or after January 22, 2024.

ADDRESSES: Curator of American Indian Collections Jacqueline Pozza Reisner, State Historical Society of Wisconsin, 204 S Thornton Avenue, Madison, WI 53703, telephone (608) 263-3537, email jacqueline.pozza@wisconsinhistory.org and nagpra@wisconsinhistory.org.

SUPPLEMENTARY INFORMATION: This notice is published as part of the National Park Service's administrative responsibilities under NAGPRA. The determinations in this notice are the sole responsibility of the State Historical Society of Wisconsin. The National Park Service is not responsible for the determinations in this notice. Additional information on the determinations in this notice, including the results of consultation, can be found in the summary or related records held by the State Historical Society of Wisconsin.

Description

The one cultural item has the catalog number 1950.6447 and is described in Society documentation as both a War Club and a Prophet Stick belonging to Chief Spoon Decorah and was removed from Black River Falls, Jackson County, WI. The State Historical Society of Wisconsin purchased this item on December 3, 1913 for $20.00 from Dr. Paul Radin, who reported collecting the item in Black River Falls, Wisconsin and indicated that it was formerly the property of Ho-Chunk/Winnebago Chief Spoon Decorah. The Decorah War Club/Prophet Stick was purchased from Dr. Paul Radin at the same time as the Decorah War Bundle, which was repatriated by the State Historical Society of Wisconsin to the Ho-Chunk Nation of Wisconsin in 2012. The Decorah name has been spelled various ways throughout history, including DeCarrie, Dekorah, Decorah, Decora, DeKaury.

The Decorah War Club/Prophet Stick is a curved wooden item with one “leg” longer than the other and a raised circular knob at the junction of these legs. The War Club/Prophet Stick has numerous carvings including a column of pictographs. There is a metal blade attached to the top of the Prophet Stick, which was added by former State Historical Society of Wisconsin Curator David Wooley.

According to Christian Feest's research of prophet sticks in “The Prophet Stick: Detective Stories from the Museum World” article in Journal Fünf Kontinente, vol. 3, pp. 96-151, these prophet sticks were often physically part of bundles or cared for by war bundle caretakers and were clan-owned and inalienable to an individual. Cultural knowledge shared through consultation confirmed that these items were often part of bundles, which were clan-owned, and should be cared for by the current bundle keeper. The Decorah War Club/Prophet Stick is affiliated with the Ho-Chunk/Winnebago people, who are now the Ho-Chunk Nation of Wisconsin and the Winnebago Tribe of Nebraska.

Through consultation with the Ho-Chunk Nation of Wisconsin and the Winnebago Tribe of Nebraska, it was confirmed that the Decorah War Club/Prophet Stick is an object of cultural patrimony inalienable from the Ho-Chunk and Winnebago peoples and needs to be reunited with the Decorah War Bundle. Those involved in consultation determined that the Decorah War Club/Prophet Stick should be returned to the Ho-Chunk Nation of Wisconsin.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological information, folklore, geographical information, historical information, kinship, oral tradition, and expert opinion.

Determinations

Pursuant to NAGPRA and its implementing regulations, and after consultation with the appropriate Indian Tribes and Native Hawaiian organizations, the State Historical Society of Wisconsin has determined that:

• The one cultural item described above has ongoing historical, traditional, or cultural importance central to the Native American group or culture itself, rather than property owned by an individual.

• There is a relationship of shared group identity that can be reasonably traced between the cultural items and the Ho-Chunk Nation of Wisconsin and the Winnebago Tribe of Nebraska.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 22, 2024. If competing requests for repatriation are received, the State Historical Society of Wisconsin must determine the most appropriate requestor prior to repatriation. Requests for joint repatriation of the cultural item are considered a single request and not competing requests. The State Historical Society of Wisconsin is responsible for sending a copy of this notice to the Indian Tribes and Native Hawaiian organizations identified in this notice.

Authority: Native American Graves Protection and Repatriation Act, 25 U.S.C. 3003, and the implementing regulations, 43 CFR 10.8, 10.10, and 10.14.

Dated: December 13, 2023.
Melanie O'Brien,
Manager, National NAGPRA Program.

[FR Doc. 2023-28178 Filed 12-21-23; 8:45 am]

BILLING CODE 4312-52-P